ENVIRONMENTAL PROTECTION AGENCY

40 CFR Parts 52, 78, and 97

[EPA-R06-OAR-2016-0611; EPA-HQ-OAR-2016-0598; FRL-9771-03-R6]

Revision and Promulgation of Air Quality Implementation Plans; Texas; Regional Haze Federal Implementation Plan; Disapproval and Need for Error Correction; Denial of Reconsideration of Provisions Governing Alternative to Source-Specific Best Available Retrofit Technology (BART) Determinations

AGENCY: Environmental Protection Agency (EPA).

ACTION: Proposed rule; extension of comment period.

SUMMARY: On May 4, 2023, the Environmental Protection Agency (EPA) proposed a rule titled, “Revision and Promulgation of Air Quality Implementation Plans; Texas; Regional Haze Federal Implementation Plan; Disapproval and Need for Error Correction; Denial of Reconsideration of Provisions Governing Alternative to Source-Specific Best Available Retrofit Technology (BART) Determinations.” The EPA is extending the comment period on the proposed rule that was scheduled to close on July 3, 2023. The EPA has received requests for additional time to review and comment on the proposed rule revisions.

DATES: The public comment period for the proposed ruled published in the Federal Register on May 4, 2023 (88 FR 28918), is being extended. Written comments must be received on or before August 2, 2023.

ADDRESSES: The EPA has established docket number EPA-HQ-OAR-2016-0611 for this action. Follow the online instructions for submitting comments. Once submitted, comments cannot be edited or removed from https://www.regulations.gov/. The EPA may publish any comment received to its public docket. Do not submit electronically any information you consider to be Confidential Business Information (CBI) or other information whose disclosure is restricted by statute. Multimedia submissions (audio, video, etc.) must be accompanied by a written comment. The written comment is considered the official comment and should include discussion of all points you wish to make. The EPA will generally not consider comments or comment contents located outside of the primary submission (i.e., on the web, cloud, or other file sharing system). For additional submission methods, please contact the person identified in the FOR FURTHER INFORMATION CONTACT section. For the full EPA public comment policy, information about CBI or multimedia submissions and general guidance on making effective comments, please visit https://www2.epa.gov/dockets/commenting-epa-dockets.

FOR FURTHER INFORMATION CONTACT: For additional information on this action, contact Michael Feldman, Air and Radiation Division, SO2 and Regional Haze Section (ARSH), Environmental Protection Agency, 1201 Elm St., Suite 500 Dallas, TX 75270; telephone number: (214) 665-9793; or via email: R6TXBARTandCSAPRPetition@epa.gov.

SUPPLEMENTARY INFORMATION: After considering the requests to extend the public comment period received from various parties, the EPA has decided to extend the public comment period until August 2, 2023. This extension will ensure that the public has additional time to review the proposed rule.

Scott Mathias,
Director, Air Quality Policy Division, Office of Air Quality Planning and Standards.

[FR Doc. 2023-11585 Filed 5-31-23; 8:45 am]

BILLING CODE 6560-50-P